POSTAL REGULATORY COMMISSION

39 CFR Part 3050

[Docket No. RM2009-7; Order No. 245]

Periodic Reporting Rules

AGENCY: Postal Regulatory Commission.

ACTION: Proposed rule; availability of rulemaking petition.

SUMMARY: Under a new law, the Postal Service must file an annual compliance report with the Postal Regulatory Commission on costs, revenues, rates and quality of service associated with its products. This document notes that the Postal Service has filed a petition for consideration of a proposed change in analytical methods approved for use in periodic reporting. The focus of this petition (involving an issue referred to as Proposal Two) is on the Postal Service's development of revenue, piece and weight estimates for bulk mail categories. The Commission has established a docket for consideration of Proposal Two and has addressed preliminary procedural matters, including an opportunity for public comment. Proposal One is under consideration in a pending docket.

DATES: Deadline for initial comments: July 29, 2009.

ADDRESSES: File comments electronically via the Commission's Filing Online system.

FOR FURTHER INFORMATION CONTACT: Stephen L. Sharfman, General Counsel, 202-789-6829 or stephen.sharfman@prc.gov.

SUPPLEMENTARY INFORMATION: Regulatory History, 74 FR 31386 (July 1, 2009).

On July 7, 2009, the Postal Service filed a petition to initiate an informal rulemaking proceeding to consider a change in the analytical methods approved for use in periodic reporting.¹ The Petition explains that the Postal Service's current practice is to combine data from two sources to fashion Revenue, Pieces, and Weight (RPW) estimates for the various categories of bulk mail. It combines census data recorded by its PostalOne! system (which reflects automated office activity) with data found on postage statements that are taken from a probability sample of non-automated offices. It notes that the sample data taken from non-automated offices are becoming less reliable as the pool of non-automated offices shrinks and the sample frames for that pool become increasingly dated. It also notes that the sampling process is more expensive than the modeling process that it proposes.

¹ Petition of the United States Postal Service Requesting Initiation of a Proceeding to Consider Proposed Change in Analytic Principles (Proposal Two), July 7, 2009 (Petition).

The Postal Service proposes to discontinue sampling non-automated offices when preparing its RPW estimates. In place of the current non-automated office sample, it proposes to take the universe of offices, and stratify it according to size. It will then impute the incidence of mail characteristics for a given product found in automated offices in a particular size stratum, as reflected in PostalOne! data, to the characteristics of products found in non-automated offices in the same size stratum. The Postal Service calls this its “modeling” approach. Petition at 1-2.

The Petition, which is available on the Commission's Web site, http://www.prc.gov, includes appendices purporting to show the results of testing the accuracy of its modeling approach in estimating revenue, pieces, and weight with respect to all market dominant bulk mail categories. The Postal Service concludes that the results are accurate for all categories except for Within County Periodicals. Even with respect to Within County Periodicals, it asserts that the modeled results are more accurate than the current approach which employs data gathered from a sample of non-automated offices. Id. at 2 and Attachment at 2.

The attachment and the appendices to the Postal Service's Petition explain its proposal in more detail, including its background, objective, rationale, and estimated impact.

It is ordered:

1. Petition of the United States Postal Service Requesting Initiation of a Proceeding to Consider Proposed Change in Analytic Principles (Proposal Two), filed July 7, 2009, is granted.

2. The Commission establishes Docket No. RM2009-7 to consider the matters raised by the Postal Service's Petition.

3. Interested persons may submit initial comments on or before July 29, 2009.

4. The Commission will determine the need for reply comments after review of the initial comments.

5. Diane Monaco is designated to serve as the Public Representative representing the interests of the general public in this proceeding.

6. The Secretary shall arrange for publication of this notice in the Federal Register.

Authority: 39 U.S.C. 3652.

Issued: July 10, 2009.
By the Commission.
Judith M. Grady,
Acting Secretary.

[FR Doc. E9-17285 Filed 7-20-09; 8:45 am]

BILLING CODE 7710-FW-P